DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the SUPPLEMENTARY INFORMATION section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Exploration and Production

Offshore Structures

RP 2I, 3rd Edition, In-service Inspection of Mooring Hardware for Floating Drilling Units

RP 2SK, Addendum to 3rd Edition, Design and Analysis of Stationkeeping Systems for Floating Structures

FOR FURTHER INFORMATION CONTACT: Roland Goodman, Standards Department, e-mail: (goodmanr@api.org).

Oil Country Tubular Goods

Spec 5B, 15th Edition, Threading, Gauging and Thread Inspection of Casing, Tubing, and Line Pipe Threads

Bull 5C3, 7th Edition, Formulations and Calculations for Casing, Tubing, Drill Pipe, and Line Pipe

Spec 5CRA, 1st Edition, Corrosion Resistant Alloy Seamless Tubes for use as Casing, Tubing and Coupling Stock—Technical Delivery Conditions

Spec 5DP, 1st Edition, Drill Pipe

Spec 5LD, 3rd Edition, CRA Clad or Lined Steel Pipe

FOR FURTHER INFORMATION CONTACT: Brad Bellinger, Standards Department, e-mail: (bellingerb@api.org).

Valves

Spec 6D, 23rd Edition, Pipeline Valves

FOR FURTHER INFORMATION CONTACT: Ed Baniak, Standards Department, email: (baniake@api.org).

Drilling Equipment

Spec 7-2, 1st Edition, Rotary Drilling Equipment—Part 2: Threading and Gauging of Rotary Shouldered Thread Connections

FOR FURTHER INFORMATION CONTACT: Brad Bellinger, Standards Department, email: (bellingerb@api.org).

Drilling Operations

RP 65-1, 2nd Edition, Cementing Shallow Water Flow Zones in Deepwater Wells

RP 65-2, 1st Edition, Isolating Potential Flow Zones during Well Construction

FOR FURTHER INFORMATION CONTACT: Brad Bellinger, Standards Department, email: (bellingerb@api.org).

Well Cements and Completion Fluids

Spec 10A, 24th Edition, Cements and Materials for Well Cementing

TR 10TR4, 1st Edition, Technical Report on Considerations Regarding Selection of Centralizers for Primary Cementing Operations

TR 10TR5, 1st Edition, Technical Report on Methods for Testing of Solid and Rigid Centralizers

FOR FURTHER INFORMATION CONTACT: Brad Bellinger, Standards Department, email: (bellingerb@api.org).

Production Equipment

Spec 11E, 18th Edition, Pumping Units

Spec 11V4, 1st Edition, Practices for Side-picket Mandrels and Related Equipment

Spec 11V5, 3rd Edition, Operation, Maintenance, and Trouble-Shooting of Gas Lift Operations

FOR FURTHER INFORMATION CONTACT: Ed Baniak, Standards Department, email: (baniake@api.org).

Drilling Fluids

Spec 13A, 18th Edition, Drilling Fluid Materials

RP 13B-1, 4th Edition, Field Testing Water-Based Drilling Fluids

RP 13B-2, 5th Edition, Field Testing Oil-Based Drilling Fluids

RP 13I, 8th Edition, Laboratory Testing Drilling Fluids

Spec 13K, 3rd Edition, Chemical Analysis of Barite

FOR FURTHER INFORMATION CONTACT: Brad Bellinger, Standards Department, email: (bellingerb@api.org).

Drilling Well Control Equipment

RP 16ST, 1st Edition, Recommended Practice for Coiled Tubing Well Control Equipment Systems and Operations

FOR FURTHER INFORMATION CONTACT: Roland Goodman, Standards Department, email: (goodmanr@api.org).

Subsea Production Equipment

RP 17B, 4th Edition, Flexible Pipe

Spec 17D, 2nd Subsea Wellhead and Christmas Tree Equipment

RP 17N, 1st Edition, Subsea Reliability

FOR FURTHER INFORMATION CONTACT: Ed Baniak, Standards Department, email: (baniake@api.org).

Meetings/Conferences: The 2008 Summer Standardization Conference on Oilfield Equipment and Materials will take place in Calgary, Alberta, Canada, June 23-27, 2008. Interested parties may visit the API Web site at http://www.api.org/meetings/ for more information regarding participation in this meeting.

Executive Committee on Drilling and Production Operations

RP 14F, 5th Edition, Design and Installation of Electrical Systems for Fixed and Floating Offshore Petroleum Facilities for Unclassified and Class 1, Division 1, and Division 2 Locations

RP 95J, 1st Edition, Gulf of Mexico Jackup Operations for Hurricane Season

Bull XX, 1st Edition, E&P Jobsite Safety Handbook

FOR FURTHER INFORMATION CONTACT: Tim Sampson, Upstream and Industry Operations, email: (sampson@api.org).

Marketing

Spec 1582, 2nd Edition, Similarity for API/IP 1581 Aviation Jet Fuel Filter/Separators

FOR FURTHER INFORMATION CONTACT: David Soffrin, Standards Department, email: (soffrind@api.org).

RP 1639, 2nd Edition, Owner/Operator's Guide to Operation and Maintenance of Vapor Recovery Systems at Gasoline Dispensing Facilities

RP 1626, 2nd Edition, Storage and Handling Ethanol and Gasoline-Ethanol Blends at Distribution Terminals and Service Stations

RP 1615, 6th Edition, Installation of Underground Petroleum Storage Systems

RP 1604, 4th Edition, Closure of Underground Petroleum Storage Tanks

RP 2611 1st Edition, Terminal Piping Inspection

FOR FURTHER INFORMATION CONTACT: Steve Crimaudo, Standards Department, email: (crimaudos@api.org).

Measurement

Measurement Quality

Chapter 7, 2nd Edition, Temperature Determination

Chapter 8.2, 3rd Edition, Automatic Sampling of Petroleum and Petroleum Products

Chapter 9.1, 3rd Edition, Standard Test Method for Density, Relative Density (Specific Gravity) or API Gravity of Crude Petroleum and Liquid Petroleum Products by Hydrometer Methods

Chapter 9.2, 3rd Edition, Standard Test Method for Density or Relative Density of Light Hydrocarbons by Pressure Hydrometer

Chapter 9.3, 3rd Edition, Standard Test Method for Density, Relative Density, and API Gravity of Crude Petroleum and Liquid Petroleum Products by Thermohydrometer Method

Chapter 10.9, 3rd Edition, Standard Test Method for Water in Crude Oils by Coulometric Karl Fischer Titration

Chapter 11.5.1, 1st Edition, Physical Properties Data—Section 5—Density/Weight/Volume Intraconversion—Part 1—Conversions of API Gravity at 60 °F,

Chapter 11.5.2, 1st Edition, Physical Properties Data—Section 5—Density/Weight/Volume Intraconversion—Part 2—Conversions for Relative Density (60/60 °F)

Chapter 11.5.3, 1st Edition, Physical Properties Data—Section 5—Density/Weight/Volume Intraconversion—Part 3—Conversions for Absolute Density at 15 °C

FOR FURTHER INFORMATION CONTACT: Sally Goodson, Standards Department, email: (goodsons@api.org).

Gas Fluid Measurement

Chapter 14.5, 3rd Edition, Calculation of Gross Heating Value, Specific Gravity, and Compressibility of Natural Gas Mixtures from Compositional Analysis

Chapter 21.1, 2nd Edition, Electronic Gas Measurement

FOR FURTHER INFORMATION CONTACT: Shail Ghaey, Standards Department, email: (ghaeys@api.org).

Measurement Accountability

Chapter 17.1, 5th Edition, Guidelines for Marine Cargo Inspection

Chapter 17.11, 1st Edition, Measurement and Sampling of Cargoes on Board Tank Vessels Using Closed/Restricted Equipment

Chapter 17.12, 1st Edition, Bulk Liquid Chemical Cargo Inspection

FOR FURTHER INFORMATION CONTACT: Sally Goodson, Standards Department, e-mail: (goodsons@api.org).

Evaporative Loss Estimation

Technical Report, Evaporative Loss from Closed-Vent Internal Floating-Roof Storage Tanks, 1st Edition

Chapter 19.1, Amendment to 3rd Edition, Evaporative Loss from Fixed-Roof Tanks

FOR FURTHER INFORMATION CONTACT: Paula Watkins, Standards Department, e-mail: (watkinsp@api.org).

Liquid Measurement

Chapter 4.5, 3rd Edition, Master-meter Provers

Chapter 4.9.4, 1st Edition, Determination of the Volume of Displacement and Tank Provers by the Gravimetric Method of Calibration

Chapter 12.1.2, 2nd Edition, Calculation of Static Petroleum Quantities—Part 2—Calculation Procedures for Tank Cars

FOR FURTHER INFORMATION CONTACT: Paula Watkins, Standards Department, e-mail: (watkinsp@api.org).

Meetings/Conferences: The Spring Committee on Petroleum Measurement will be held in Dallas, Texas, March 10-14, 2008. The Fall Committee on Petroleum Measurement will be held in Long Beach, California, October 13-17, 2008. Interested parties may visit the API Web site at http://www.api.org/meetings/ for more information regarding participation in these meetings.

Pipeline

RP 1167, 1st Edition, Alarm Management

RP 1111, 4th Edition, Design, Construction, Operation and Maintenance of Off-Shore Hydrocarbon Pipelines and Risers

RP 2200, 4th Edition, Repairing Crude Oil, Liquefied Petroleum Gas and Product Pipelines

RP 1161, 2nd Edition, Qualification of Liquid Pipeline Personnel

RP 1162, 2nd Edition, Public Awareness Programs for Pipeline Operations

RP 1109, 4th Edition, Marking Liquid Petroleum Pipeline Facilities

RP 1168, 1st Edition, Control Room Operations

RP 1164, 2nd Edition, SCADA Security

FOR FURTHER INFORMATION CONTACT: Ed Baniak, Standards Department, e-mail: (baniake@api.org).

Process Safety Management

RP 752, 3rd Edition, Management of Hazards Associated with Location of Process Plant Buildings

Std 7XX, 1st Edition, Fatigue Prevention

Std 7XY, 1st Edition, Performance Indicators

FOR FURTHER INFORMATION CONTACT: David Soffrin, Standards Department, e-mail: (soffrind@api.org).

Refining

Aboveground Storage Tanks

Std 620, 11th Edition, Design and Construction of Large, Welded, Low-pressure Storage Tanks

Std 650, Add.1 to 11th Edition, Welded Steel Tanks for Oil Storage

Std 650, Add.2 to 11th Edition, Welded Steel Tanks for Oil Storage

Std 653, 4th Edition, Tank Inspection, Repair, Alteration, and Reconstruction

Std 625, 1st Edition, Design, Construction, Testing, and Commissioning of Large, Low Pressure, Refrigerated Tanks and their Associated Systems

FOR FURTHER INFORMATION CONTACT: Steve Crimaudo, Standards Department, e-mail: (crimaudos@api.org).

Valves

RP 591, 4th Edition, Process Valve Qualification Procedure

Std 608, 4th Edition, Metal Ball Valves—Flanged, Threaded, and Butt-Welding Ends

Std 603, 8th Edition, Corrosion-Resistant, Bolted Bonnet Gate Valves—Flanged and Butt-Welding Ends

FOR FURTHER INFORMATION CONTACT: Gordon Robertson, Standards Department, e-mail: (robertsong@api.org).

Electrical Equipment

RP 500, 3rd Edition, Classification of Locations for Electrical Installations at Petroleum Facilities Classified as Class 1, Division 1 and Division 2

RP 505, 2nd Edition, Classification of Locations for Electrical Installations at Petroleum Facilities Classified as Class 1, Zone 0, Zone 1 and Zone 2

RP 545, 1st Edition, Lighting Protection for Above Ground Storage Tanks

FOR FURTHER INFORMATION CONTACT: Gordon Robertson, Standards Department, e-mail: (robertsong@api.org).

Heat Transfer Equipment

Std 663, 1st Edition, Multiple Hairpin Heat Exchangers

Std 664, 1st Edition, Spiral Plate Heat Exchangers

FOR FURTHER INFORMATION CONTACT: Gordon Robertson, Standards Department, e-mail: (robertsong@api.org).

Instruments and Control Systems

RP 554, 2nd Edition, Process Instrumentation and Control, Parts 2 & 3

FOR FURTHER INFORMATION CONTACT: Gordon Robertson, Standards Department, e-mail: (robertsong@api.org).

Corrosion and Materials

TR 934-C, 1st Edition, Materials and Fabrication of 1¼ Cr-½ Mo Steel Heavy Wall Pressure Vessels for High Pressure Hydrogen Service Operating at or Below 825 °F (441 °C)

RP 934-A, 2nd Edition, Materials and Fabrication Requirements for 2¼ Cr-1M0 & 3Cr-1Mo Steel Heavy Wall Pressure Vessels for High Temperature, High Pressure Hydrogen Service

RP 936, 3rd Edition, Refractory Installation Quality Control Guidelines

TR 938-B, 1st Edition, Use of 9Cr-1Mo-V (Grade 91) Steel in the Oil Refining Industry

RP 941, 7th Edition, Steels for Hydrogen Service at Elevated Temperatures and Pressures in Refineries and Petrochemical Plants

FOR FURTHER INFORMATION CONTACT: Steve Crimaudo, Standards Department, email: (crimaudos@api.org).

Inspection

API 510, 10th Edition, Pressure Vessel Inspection Code: In-service Inspection, Rating, Repair, and Alteration

RP 574, 3rd Edition, Inspection Practices for Piping Systems Components

RP 576, 3rd Edition, Inspection of Pressure Relieving Devices

Publ 581, 2nd Edition, Base Resource Document—Risk Based Inspection

FOR FURTHER INFORMATION CONTACT: David Soffrin, Standards Department, email: (soffrind@api.org).

Pressure Relieving Systems

Std 521, Addendum 1 to 5th Edition, Guide for Pressure-relieving and Depressuring Systems RP 520, Part 1, 8th Edition, Sizing, Selection and Installation of Pressure-Relieving Devices in Refineries, Part 1—Sizing and Selection

FOR FURTHER INFORMATION CONTACT: Steve Crimaudo, Standards Department, email: (crimaudos@api.org).

Mechanical Equipment

Std 614, 5th Edition, Lubrication, Shaft-Sealing, and Control-oil Systems and Auxiliaries for Petroleum, Chemical and Gas Industry Services

Std 619, 5th Edition, Rotary-Type Positive-Displacement Compressors for Petroleum, Petrochemical, and Natural Gas Industries

FOR FURTHER INFORMATION CONTACT: Gordon Robertson, Standards Department, email: (robertsong@api.org).

Meetings/Conferences: The Spring Refining and Equipment Standards Meeting will be held in New Orleans, Louisiana, April 14-16, 2008. The Fall Refining and Equipment Standards Meeting will be held in Los Angeles, California, November 10-12, 2008. Interested parties may visit the API website at http://www.api.org/meetings/ for more information regarding participation in these meetings.

Safety and Fire Protection

RP 2350, 4th Edition, Overfill Protection for Storage Tanks in Petroleum Service

Publ 2218, 3rd Edition, Fireproofing Practices in Petroleum and Petrochemical Processing Plants

Publ 2210, 4th Edition, Flame Arrestors for Vents of Tanks Storing Petroleum Products

Publ 2510A, 3rd Edition, Fire Protection Consideration for the Design and Operation of Liquefied Petroleum Gas (LPG) Storage Facilities

FOR FURTHER INFORMATION CONTACT: David Soffrin, Standards Department, email: (soffrind@api.org).

For additional information on the overall API standards program, Contact: David Miller, Standards Department, email: miller@api.org.

Dated: March 10, 2008.
Richard F. Kayser,
Acting Deputy Director.

[FR Doc. E8-5179 Filed 3-13-08; 8:45 am]

BILLING CODE 3510-13-P